DEPARTMENT OF THE INTERIOR

Bureau of Land Management

[WO-350-1430-EU-24 1A]

Extension of Approved Information Collection, OMB Approval Number 1004-0153

AGENCY: Bureau of Land Management, Interior.

ACTION: Notice and request for comments.

SUMMARY: In accordance with the Paperwork Reduction Act of 1995, the Bureau of Land Management (BLM) is requesting the Office of Management and Budget (OMB) to extend an existing approval to collect information from persons who seek to acquire the federally-owned (reserved) mineral interests underlying their surface estate. BLM collects this information to assure that the applicant is the surface owner that overlies the federally-owned minerals and that statutory requirements for their conveyance are met. The regulations under 43 CFR 2720 authorize BLM to collect information (no specific form is required) to convey federally-owned mineral interests to surface owners if certain conditions are met.

DATES: You must submit your comments to BLM at the address below on or before December 10, 2001. BLM will not necessarily consider any comments received after the above date.

ADDRESSES: You may mail comments to: Regulatory Affairs Group (630), Bureau of Land Management, Mailstop 401LS, 1849 C Street, NW., Washington, DC 20240.

You may send comments via Internet to: WOComment@blm.gov. Please include “ATTN: 1004-0153” and your name and return address in your Internet message.

You may deliver comments to the Bureau of Land Management, Administrative Record, Room 401, 1620 L Street, NW., Washington, DC.

Comments will be available for public review at the L Street address during regular business hours (7:45 a.m. to 4:15 p.m.) Monday through Friday.

FOR FURTHER INFORMATION CONTACT: You may contact Alzata L. Ransom, Realty Use Group, on (202) 452-7772 (Commercial or FTS). Persons who use a telecommunication device for the deaf (TDD) may call the Federal Information Relay Service (FIRS) on 1-800-877-8330, 24 hours a day, seven days a week, to contact Ms. Ransom.

SUPPLEMENTARY INFORMATION: 5 CFR 1320.12(a) requires that we provide a 60-day notice in the Federal Register concerning a collection of information to solicit comments on:

(a) Whether the collection of information is necessary for the proper functioning of the agency, including whether the information will have practical utility;

(b) The accuracy of our estimates of the information collection burden, including the validity of the methodology and assumptions we use;

(c) Ways to enhance the quality, utility, and clarity of the information collected; and

(d) Ways to minimize the information collection burden on those who are to respond, including the use of appropriate automated, electronic, mechanical, or other technological collection techniques or other forms of information technology.

The regulations under 43 CFR part 2720 and section 209 of the Federal Land Policy and Management Act of 1976 establish procedures for BLM to convey federally-owned (reserved) mineral interests to non-federal surface ownership. These regulations (43 CFR 2720) authorize BLM to collect this information (no specific form is required) to determine if BLM may convey the federally-owned mineral interests to surface owners who apply and meet the statutory requirements. We list in 43 CFR 2720.1-2 the specific information requirements to apply for a conveyance of federally-owned mineral interests. Without this information, BLM would not be able to analyze and approve applications to convey federally-owned mineral interests. Also, BLM would not be able to carry out the mandate of Section 209 of the Federal Land Policy and Management Act of 1976.

Based upon BLM experience administering the regulations (43 CFR part 2720), we estimate the public reporting information collection burden to be 10 hours per application. The respondents are surface owners in which the mineral interests are reserved or owned by the United States. The estimated number of responses per year is 13 and the total annual burden is 130 hours.

BLM will summarize all responses to this notice and include them in the request for OMB approval. All comments will become a matter of public record.

Dated: September 20, 2001.
Michael H. Schwartz,
BLM Information Collection Clearance Officer.

[FR Doc. 01-25527 Filed 10-10-01; 8:45 am]

BILLING CODE 4310-84-M